DEPARTMENT OF COMMERCE

International Trade Administration

Proposed Information collection; Comment Request; Export Trading; Companies Contact Facilitation Service

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 29, 2008.

ADDRESSES: Direct all written comments to Diana Hynek, Departmental Paperwork Clearance Officer, Department of Commerce, Room 6625, 14th & Constitution Avenue, NW., Washington, DC 20230 or via the Internet at dHynek@doc.gov.

FOR FURTHER INFORMATION CONTACT: Requests for additional information or copies of the information collection instrument and instructions should be directed to: Shirley Hooker, Export Trading Company Affairs, Industry Analysis; phone: (202) 482-5131; e-mail: shirley_hooker@ita.doc.gov, and fax: (202) 482-1790.

SUPPLEMENTARY INFORMATION:

I. Abstract

One of the goals of the Export Trading Company (ETC) Act of 1982 is to increase U.S. exports of goods and services by encouraging a more efficient provision of export trade services to U.S. producers. Section 104 of the Act directs the U.S. Department of Commerce (DOC) to provide a service to facilitate contact between producers of exportable goods and services and firms offering export trade services. The Export Trading Company Contact Facilitation Service (CFS) is a database designed to carry out the goal of Section 104 of the Act by putting U.S. producers of goods and services together with U.S. export service providers.

The DOC's International Trade Administration (ITA) maintains the CFS database of U.S. producers and export service providers (export trading and export management firms, export sales agents, freight forwarders, and other export trade service providers) through a public-private partnership. The producers and export service providers voluntarily register their export interests online at http://www.exportyellowpages.com for inclusion in the CFS. The Export Yellow Pages®, an ITA program, uses the CFS to help promote U.S. goods and services, and enable U.S. producers to locate export service providers.

The commercial profiles of CFS registrants are accessible at http://www.exportyellowpages.com. CFS registrants are also listed in an annual print directory distributed worldwide. The CFS print and electronic directories are made available through “The Export Yellow Pages”. Without the information collected by the form, the CFS database and the resulting directories would be unreliable and ineffective, because end-users of this data need current information about the listed companies.

II. Method of Collection

Form ITA-4094P is accessible to U.S. firms at http://www.exportyellowpages.com. This form can also be sent by request to U.S. firms.

III. Data

OMB Control Number: 0625-0120.

Form Number(s): ITA-4094P.

Type of Review: Regular submission.

Affected Public: Business or other for-profit organizations; not-for-profit institutions; and state, local or tribal government.

Estimated Number of Respondents: 18,000.

Estimated Time per Response: 15 minutes.

Estimated Total Annual Burden Hours: 4,500.

Estimated Total Annual Cost to Public: $94,500.

IV. Request for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: May 27, 2008.
Gwellnar Banks,
Management Analyst, Office of the Chief Information Officer.

[FR Doc. E8-12081 Filed 5-29-08; 8:45 am]

BILLING CODE 3510-DR-P